DEPARTMENT OF TRANSPORTATION

Federal Aviation Administration

14 CFR Part 39

[Docket No. FAA-2017-1184; Product Identifier 2017-CE-029-AD; Amendment 39-19205; AD 2018-04-09]

RIN 2120-AA64

Airworthiness Directives; Pacific Aerospace Limited Airplanes

AGENCY: Federal Aviation Administration (FAA), Department of Transportation (DOT).

ACTION: Final rule.

SUMMARY: We are adopting a new airworthiness directive (AD) for Pacific Aerospace Limited Model 750XL airplanes. This AD results from mandatory continuing airworthiness information (MCAI) issued by an aviation authority of another country to identify and correct an unsafe condition on an aviation product. The MCAI describes the unsafe condition as incorrectly marked and annunciated low oil pressure indication warnings. We are issuing this AD to require actions to address the unsafe condition on these products.

DATES: This AD is effective April 12, 2018.

The Director of the Federal Register approved the incorporation by reference of certain publications listed in the AD as of April 12, 2018.

ADDRESSES: You may examine the AD docket on the internet at http://www.regulations.gov by searching for and locating Docket No. FAA-2017-1184; or in person at Docket Operations, U.S. Department of Transportation, M-30, West Building Ground Floor, Room W12-140, 1200 New Jersey Avenue SE, Washington, DC 20590.

For service information identified in this AD, contact Pacific Aerospace Limited, Airport Road, Hamilton, Private Bag 3027, Hamilton 3240, New Zealand; telephone: +64 7 843 6144; facsimile: +64 7 843 6134; email: pacific@aerospace.co.nz; internet: www.aerospace.co.nz. You may view this referenced service information at the FAA, Policy and Innovation Division, 901 Locust, Kansas City, Missouri 64106. For information on the availability of this material at the FAA, call (816) 329-4148. It is also available on the internet at http://www.regulations.gov by searching for Docket No. FAA-2017-1184.

FOR FURTHER INFORMATION CONTACT: Mike Kiesov, Aerospace Engineer, FAA, Small Airplane Standards Branch, 901 Locust, Room 301, Kansas City, Missouri 64106; telephone: (816) 329-4144; fax: (816) 329-4090; email: mike.kiesov@faa.gov.

SUPPLEMENTARY INFORMATION:

Discussion

We issued a notice of proposed rulemaking (NPRM) to amend 14 CFR part 39 by adding an AD that would apply to Pacific Aerospace Limited Model 750XL airplanes. The NPRM was published in the Federal Register on December 15, 2017 (82 FR 59555). The NPRM proposed to correct an unsafe condition for the specified products and was based on mandatory continuing airworthiness information (MCAI) originated by an aviation authority of another country. The MCAI states:

The low oil pressure warnings are incorrectly marked and annunciated on certain Pacific Aerospace 750XL aircraft. This [CAA] AD introduces the requirements in Pacific Aerospace Mandatory Service Bulletin (MSB) PACSB/XL/088, dated 11 August 2017, to correct low oil pressure indication warnings.

The MCAI can be found in the AD docket on the internet at: https://www.regulations.gov/document?D=FAA-2017-184-002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR Part 51

We reviewed Pacific Aerospace Mandatory Service Bulletin (MSB) PACSB/XL/088, dated August 11, 2017; and Pacific Aerospace Temporary Revision Instruction Letter, dated August 2017, which includes Pacific Aerospace temporary revisions XL/POH/00/001, XUPOH/02/001, XUPOH/03/001, and XUPOH/03/002. The service bulletin describes procedures for adjustment or replacement of the low oil pressure light, pressure switch, and indicator. The temporary revision instruction letter contains revisions that correct the reference to the incorrect instrument markings in the Pilots Operating Handbook (POH). This service information is reasonably available because the interested parties have access to it through their normal course of business or by the means identified in the ADDRESSES section of the AD.

Costs of Compliance

We estimate that this AD will affect 22 products of U.S. registry. We also estimate that it would take about 2 work-hours per product to comply with the basic requirements of this AD. The average labor rate is $85 per work-hour. Required parts would cost about $500 per product.

Based on these figures, we estimate the cost of this AD on U.S. operators to be $14,740, or $670 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2017-1184; or in person at Docket Operations between 9 a.m. and 5 p.m., Monday through Friday, except Federal holidays. The AD docket contains the NPRM, the regulatory evaluation, any comments received, and other information. The street address for Docket Operations (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2018-04-09 Pacific Aerospace Limited: Amendment 39-19205; Docket No. FAA-2017-1184; Product Identifier 2017-CE-029-AD.

(a) Effective Date

This airworthiness directive (AD) becomes effective April 12, 2018.

(b) Affected ADs

None.

(c) Applicability

This AD applies to Pacific Aerospace Limited Model 750XL airplanes, all serial numbers up to XL217, certificated in any category.

(d) Subject

Air Transport Association of America (ATA) Code 79: Engine Oil.

(e) Reason

This AD was prompted by mandatory continuing airworthiness information (MCAI) originated by an aviation authority of another country to identify and correct an unsafe condition on an aviation product. The MCAI describes the unsafe condition as incorrectly marked and annunciated low oil pressure indication warnings. We are issuing this AD to prevent engine oil pressure from dropping below safe limits, which could cause possible engine damage or failure.

(f) Actions and Compliance

Unless already done, do the following actions in paragraphs (f)(1) through (4) of this AD, as applicable:

(1) For airplanes with Pilots Operating Handbook (POH) AIR 2825: Within the next 30 days after April 12, 2018 (the effective date of this AD), insert Pacific Aerospace temporary revisions XL/POH/00/001, XL/POH/02/001, and XUPOH/03/001, into the Pacific Aerospace Limited (PAL) 750XL POH AIR 2825 as specified in Pacific Aerospace Temporary Revision Instruction Letter, dated August 2017.

(2) For airplanes with Pilots Operating Handbook (POH) AIR 3237: Within the next 30 days after April 12, 2018 (the effective date of this AD), insert Pacific Aerospace temporary revisions XL/POH/00/001, XUPOH/02/001, XUPOH/03/001, and XUPOH/03/002, into the PAL 750XL POH AIR 3237 as specified in Pacific Aerospace Temporary Revision Instruction Letter, dated August 2017.

(3) For Pacific Aerospace 750XL airplanes up to serial number XL217: Within the next 100 hours time-in-service (TIS) after April 12, 2018 (the effective date of this AD) or within the next 12 months after April 12, 2018 (the effective date of this AD), whichever occurs first, replace the pressure switch for the low oil pressure light per the instructions in Part A of Pacific Aerospace Limited Mandatory Service Bulletin (PALMSB) PACSB/XL/088, dated August 11, 2017.

(4) For Pacific Aerospace 750XL airplanes up to serial number XL217 fitted with PIN INS 60-8 oil pressure/temperature indicator: Within the next 100 hours TIS after April 12, 2018 (the effective date of this AD) or within the next 12 months after April 12, 2018 (the effective date of this AD), whichever occurs first, replace the oil pressure/temperature indicator per the instructions in Part B of PALMSB PACSB/XL/088, dated August 11, 2017.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Mike Kiesov, Aerospace Engineer, FAA, Small Airplane Standards Branch, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or The Civil Aviation Authority (CAA), which is the aviation authority for New Zealand.

(h) Related Information

Refer to CAA MCAI AD No. DCA/750XL/19, dated September 7, 2017, for related information. The MCAI can be found in the AD docket on the internet at: https://www.regulations.gov/document?D=FAA-2017-1184-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pacific Aerospace Mandatory Service Bulletin (MSB) PACSB/XL/088, dated August 11, 2017.

(ii) Pacific Aerospace Temporary Revision Instruction Letter, dated August 2017, which includes Pacific Aerospace temporary revisions XL/POH/00/001, XUPOH/02/001, XUPOH/03/001, and XUPOH/03/002.

(3) For Pacific Aerospace service information identified in this AD, contact Pacific Aerospace Limited, Airport Road, Hamilton, Private Bag 3027, Hamilton 3240, New Zealand; telephone: +64 7 843 6144; facsimile: +64 7 843 6134; email: pacific@aerospace.co.nz; internet: www.aerospace.co.nz.

(4) You may view this service information at the FAA, Policy and Innovation Division, 901 Locust, Kansas City, Missouri 64106. For information on the availability of this material at the FAA, call (816) 329-4148. In addition, you can access this service information on the internet at http://www.regulations.gov by searching for and locating Docket No. FAA-2017-1184.

(5) You may view this service information that is incorporated by reference at the National Archives and Records Administration (NARA). For information on the availability of this material at NARA, call 202-741-6030, or go to: http://www.archives.gov/federal-register/cfr/ibr-locations.html.

Issued in Kansas City, Missouri, on February 16, 2018.
Pat Mullen,
Acting Deputy Director, Policy & Innovation Division, Aircraft Certification Service.

[FR Doc. 2018-04266 Filed 3-7-18; 8:45 am]

BILLING CODE 4910-13-P